NATIONAL AERONAUTICS AND SPACE ADMINISTRATION

[Notice 05-035]

NASA Advisory Council, Aeronautics Research Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Aeronautics Research Advisory Committee (ARAC).

DATES: Wednesday, March 23, 2005, 8:30 a.m. to 5:15 p.m.

ADDRESSES: National Aeronautics and Space Administration, 300 E Street, SW., Room 6H46, Washington, DC 20546.

FOR FURTHER INFORMATION CONTACT: Mrs. Mary-Ellen McGrath, Office of Aeronautics Research, National Aeronautics and Space Administration, Washington, DC 20546, (202) 358-4729.

SUPPLEMENTARY INFORMATION: The meeting will be open to the public up to the seating capacity of the room. The agenda for the meeting is as follows:

—Opening remarks.

—NASA Aero FY06 budget update.

—Integrated Product Team (IPT).

—Joint Planning and Development Office update.

—Corporate management of facilities.

—Closing comments.

Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Mary-Ellen McGrath via e-mail at mary.E.mcgrath@nasa.gov or by telephone at (202) 358-4729. Persons with disabilities who require assistance should indicate this.

It is imperative that the meeting be held on these dates to accommodate the scheduling priorities of the key participants.

Michael F. O'Brien,
Assistant Administrator for External Relations.

[FR Doc. 05-4330 Filed 3-4-05; 8:45 am]

BILLING CODE 7510-13-P